DEPARTMENT OF HEALTH AND HUMAN SERVICES

Centers for Disease Control and Prevention

[Program Announcement 02211]

Outcome Assessment Through Systems of Integrated Surveillance (OASIS); Notice of Availability of Funds

A. Purpose

The Centers for Disease Control and Prevention announces the availability of fiscal year (FY) 2002 funds for a competitive grant program to develop and identify integrated and innovative uses of surveillance data by demonstration projects at the state and local level, utilizing surveillance data on Sexually Transmitted Diseases (STDs), Human Immunodeficiency Virus (HIV) infection, Tuberculosis (TB), reproductive health outcomes, risk behaviors, and health services. This program addresses the “Healthy People 2010” focus areas of education and community-based programs, family planning, health communications, HIV infection, immunization and infectious diseases, public health infrastructure and STD.

The primary purpose of these awards is to expand on the initial activities of the Reinventing Surveillance System for Communicable Disease Prevention: Linking Morbidity, Risk Behaviors, and Reproductive Health Outcomes grant, Announcement Number 707, by demonstrating how such systems can result in improved programs, enhanced surveillance, and disease prevention activities. It is expected that sites funded as a part of this award will demonstrate how their programs are improved as a result of integrating data sources, utilizing new technology, and by involving community members in the interpretation and analyses of surveillance data. It should be noted that “community members” refers not only to those who are infected and affected by the various diseases, but also the components of the program's authorizing environment that develops, implements, and would be needed to otherwise support policies pertaining to STDs and related public health issues.

Additional goals for these awards are to enhance surveillance relevant for gonorrhea (GC) prevention programs by promoting: (1) Enhanced GC data collection, (2) the interpretation and use of existing state and local surveillance data to better describe persons who contract GC, (3) the collection of behavioral data to further assist in defining the characteristics of this population, (4) use of these data to improve GC prevention planning and strengthen evaluation of public health programs addressing this disease, and (5) an increased understanding of associated adverse reproductive health outcomes relative to this infection.

Measurable outcomes of the program will be in alignment with one or more of the following performance goals for the National Center for HIV, STD, and TB Prevention (NCHSTP):

(1) Reduce STD rates by providing chlamydia and gonorrhea screening, treatment, and partner treatment of fifty percent of women in publicly funded family planning and STD clinics nationally.

(2) Reduce the incidence of primary and secondary syphilis.

(3) Reduce the incidence of congenital syphilis.

(4) Improve the ability of the nation's HIV/AIDS surveillance system to determine the incidence and prevalence of HIV infection.

(5) Improve the ability to measure access to care, adherence to treatment, and impact of therapy on long-term survival of persons with HIV/AIDS.

(6) Through the implementation of HIV prevention programs, reduce the number of cases of HIV infection and AIDS: (1) Acquired heterosexually, (2) related to injecting drug use, (3) associated with male-to-male homosexual contact, and (4) acquired perinatally.

(7) Eliminate tuberculosis in the United States.

B. Authority and Catalog of Federal Domestic Assistance Number

This program is authorized under section 318 of the Public Health Service Act, [42 U.S.C.A. section 247c]. The Catalog of Federal Domestic Assistance number is 93.977.

C. Eligible Applicants

Limited Competition

Assistance will be provided only to state and local health departments that were previously funded under the Reinventing Surveillance System for Communicable Disease Prevention: Linking Morbidity, Risk Behaviors, and Reproductive Health Outcomes grant, Announcement Number 707, specifically: Baltimore, California, Florida, Indiana, Massachusetts, Michigan, Missouri, New York City, New York State, North Carolina, Ohio, Oregon, San Francisco, Texas, Virginia and Washington.

Competition is limited to these states and local health departments to build on the experiences and integrated surveillance approaches and expertise these sites gained under Announcement Number 707.

D. Availability of Funds

Approximately $1,200,000 is available in FY 2002 to fund approximately eight to ten awards. It is expected that the average award will be $150,000, ranging from $125,000 to $175,000. It is expected that the awards will begin on or about September 30, 2002, and will be made for a 12-month budget period within a project period of up to three years. Funding estimates may change.

Continuation awards within an approved project period will be made on the basis of satisfactory progress as evidenced by required reports and the availability of funds.

Use of Funds

Funds may not be used to support laboratory testing, laboratory personnel, medical personnel to perform clinical evaluations, or to purchase pharmaceuticals. These funds may not be used to duplicate existing surveillance activities funded under other program announcements.

Matching funds is not a requirement for this program announcement.

E. Program Requirements

In conducting activities to achieve the purpose of this program, the recipient will be responsible for the following activities:

1. Convene at CDC during the first quarter of year one to present-funded proposals and to discuss: (a) Proposed project activities, (b) plans for implementation of enhanced GC surveillance activities, and (c) plans for development of a document that will describe project achievements and could facilitate replication of project activities by others.

2. Demonstrate how local programs have already been improved as a result of the innovative uses of the data and information possible because of Announcement Number 707 funding. (This should include examples of specific changes, such as the way the program: (a) Conducts public health surveillance, (b) distributes resources, (c) collects data, (d) interacts with community members, (e) works across programs within and outside the local health unit, (f) targets prevention activities. Applicants should include a description of how findings and experiences have been translated into ongoing program efforts and how local findings from analyses have been disseminated and used by the local STD program.

3. Identify, develop, and implement new and innovative approaches for enhancing STD, TB, and HIV prevention programs using data and information generated under Announcement #707. Identify and implement ways to evaluate the approaches, considering the specific program activities, such as those cited in program requirement number two.

4. Collaborate on the development of a report to CDC that clearly describes the activities funded under Announcement Number 707 throughout its various stages, summarize project activities, findings, time lines, costs, evaluations, etc. A clear description of how these activities altered program resources, activities, and effectiveness, how the projects were implemented, and the expectations for sustaining such functionality after funding expires, should be included.

5. Use existing data, to develop a comprehensive descriptive analysis of the persons infected with gonorrhea (which could include but not be limited to demographic characteristics, behavioral factors, extent of co-morbidity with other STDs, antimicrobial susceptibility patterns, disease intervention initiatives, geo-coding and mapping of disease areas, intervention efforts that work, collaborations, etc.).

6. Develop methods for obtaining behavioral data and other enhanced surveillance data in persons diagnosed and reported with (GC).

7. Meet at CDC early in the second year of the project to discuss progress and develop a more common approach based on findings from year one experiences, to address GC surveillance objectives.

F. Content

Letter of Intent (LOI)

An LOI is required for this program. The program announcement title and number must appear in the LOI. The narrative should be no more than one page, single spaced, and printed on one side with one inch margins, and unreduced fonts. Your LOI will be used to enable CDC to determine level of interest in the announcement and prepare for the review process. Applications will only be accepted from those sites submitting an LOI. The LOI should include, at a minimum, your intent to apply for this application and the contact person(s).

Applications

The program announcement title and number must appear in the application. Use the information in the Program Requirements, Other Requirements, and Evaluation Criteria sections to develop the application content. Your application will be evaluated on the criteria listed, so it is important to follow them in laying out your program plan. The narrative should be no more than fifteen pages, double-spaced, printed on one side, with one-inch margins and unreduced fonts, and with a number on each page.

The narrative should consist of, at a minimum, a plan, objectives, methods, evaluation, and line-item budget with justifications.

G. Submission and Deadline

Letter of Intent (LOI)

On or before July 29, 2002, submit the requested LOI to the Grants Management Specialist identified in the “Where to Obtain Additional Information” section of this Announcement.

Application

Submit the original and two copies of the application Form PHS 5161-1 (OMB Number 0920-0428), and one copy of the programmatic narrative content, in electronic format, on a three and a half-inch double-sided, high density diskette, in WordPerfect 5.1 or ASCII. Forms are available at the following Internet address: http://www.cdc.gov/od/pgo/forminfo.htm. Forms may also be obtained by contacting the Grants Management Specialist in the “Where to Obtain Additional Information” section of this announcement.

Forms may not be submitted electronically.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Narrative

The application must be received by 5 p.m. Eastern Time August 19, 2002. Submit the application to: Technical Information Management Section, Program Announcement 02211, 2920 Brandywine Road, Suite 3000, Atlanta, Georgia 30341.

Deadline: Letters of intent and applications will be considered as meeting the deadline if they are received before 5 p.m. Eastern Time on the deadline date. Applicants sending applications by the United States Postal Service or commercial delivery services must ensure that the carrier will be able to guarantee delivery of the application by the closing date and time. If an application is received after closing due to: (1) Carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Letter of Intent (LOI)

The letter of intent, though required, will not be evaluated.

Application

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness shall be submitted with the application and shall be an element of evaluation.

Each application will be evaluated individually against the following criteria by an independent review group appointed by CDC.

1. Enhance GC Case Surveillance (20 points)

Quality of a proposed plan to enhance GC case surveillance with behavioral and other data elements. The extent to which methods are sound and analyses will describe a representative sample of all persons reported to have gonorrhea. Extent to which methods are sustainable and can be incorporated into routine GC case surveillance.

2. Collaboration (15 points)

The extent to which applicant demonstrates that it has access to a wide range of data and data sources that could be useful for improving STD, TB, or HIV/AIDS prevention programs. This could include data from disease case reports, from prevalence monitoring activities, from vital statistics records, behavioral surveys, data regarding the availability of prevention, outreach, and health care services, and other data related to socio-economic conditions that may have a bearing on morbidity. Letters of support from collaborators should be included when appropriate.

3. Plans To Strengthen Prevention Programs (15 points)

The extent to which applicant is able to identify and develop innovative approaches for using data and information already generated through Announcement Number 707 to strengthen STD/HIV/TB prevention programs. Consider quality of the plan, including clarity of objectives, soundness of the applicant's approach, achievable timeline, and documentation of the applicant's ability to complete proposed plan within the project period.

4. Evaluation Plans (15 points)

The extent to which applicant is able to identify and develop new and innovative ways to evaluate efforts to enhance programs. Soundness of the evaluation plans, along with concrete examples of how evaluation efforts will be undertaken, achievable timeline, and documentation of the applicant's ability to complete proposed plans within the project period.

5. Capacity (15 points)

Staff capacity to conduct enhanced surveillance, data management, proposed analyses, and evaluation plans. Project staff should have appropriate background and experience record to perform proposed work.

6. Sustain-ability (10 points)

Sustain-ability of the project, as determined by the extent to which project activities have continued to be carried out as a collaboration among health department units. Continued health department collaborations and community involvement should be documented by letters of support.

7. Goals (5 points)

The extent to which the applicant has set forth performance goals and measures of outcomes as they relate to the Measures of Effectiveness (Section A).

8. Inclusion of Women and Minorities (5 points)

The degree to which the applicant has met the CDC Policy requirements regarding the inclusion of women, ethnic, and racial groups in the proposed activities. This includes:

1. The proposed plan for the inclusion of both sexes and racial and ethnic minority populations for appropriate representation.

2. The proposed justification when representation is limited or absent.

3. A statement as to whether the design of the study is adequate to measure differences when warranted.

4. A statement as to whether the plans include the process of establishing partnerships with communities and recognition of mutual benefits.

9. Protection of Human Subjects

Does the application adequately address the requirements of Title 45 CFR part 46 for the protection of human subjects? (Not scored; however, an application can be disapproved if the research risks are sufficiently serious and protection against risks is so inadequate as to make the entire application unacceptable).

I. Other Requirements

Technical Reporting Requirements

Provide CDC with original plus two copies of:

1. Semiannual progress reports (The progress report will include a data requirement that demonstrates measures of effectiveness).

2. Financial status report, no more than 90 days after the end of the budget period.

3. Final financial and performance report, no more than 90 days after the end of the project period.

Send all reports to the Grants Management Specialist identified in the “Where to Obtain Additional Information” section of this announcement.

Other Requirements

The following additional requirements are applicable to this program. For a complete description of each, see Attachment I of the application kit.

AR-1 Human Subjects Requirements Before a grant or a cooperative agreement can be awarded, an Institutional Review Board must certify a review (described in 45 CFR Part 46). Continuing review is also required.

AR-2 Requirements for Inclusion of Women and Racial and Ethnic Minorities in Research

AR-4 HIV/AIDS Confidentiality Provisions

AR-9 Paperwork Reduction Act Requirements

AR-10 Smoke-Free Workplace Requirements

AR-11 Healthy People 2010

AR-12 Lobbying Restrictions

J. Where To Obtain Additional Information

This and other CDC announcements, the necessary applications, and associated forms can be found on the CDC home page Internet address— http://www.cdc.gov. Click on “Funding” then “Grants and Cooperative Agreements.”

For business management assistance, contact: Gladys Gissentanna, Grants Management Specialist, Procurement and Grants Office, Centers for Disease Control and Prevention (CDC), 2920 Brandywine Road, Room 3000, Atlanta, Georgia 30341-4146, Telephone number: (770) 488-2753, Email Address: gcg4@cdc.gov.

For program technical assistance, contact: Dorotha Thomas, Project Consultant, National Center for HIV, STD, TB Prevention (NCHSTP), Division of STD Prevention, Centers for Disease Control and Prevention (CDC), 1600 Clifton Road, NE., MS E-02, Atlanta, GA, 30333, Telephone number: 404-639-8425, Email Address: dit1@cdc.gov; or Hillard Weinstock, National Center for HIV, STD, TB Prevention (NCHSTP), Division of STD Prevention, Centers for Disease Control and Prevention (CDC), 1600 Clifton Road, NE., MS E-02, Atlanta, GA, 30333, Telephone number: 404-639-2059, Email Address: hsw2@cdc.gov.

Dated: July 12, 2002.
Sandra R. Manning,
Director, Procurement and Grants Office, Centers for Disease Control and Prevention.

[FR Doc. 02-18105 Filed 7-18-02; 8:45 am]

BILLING CODE 4163-18-P